DEPARTMENT OF JUSTICE

Notice of Lodging of Consent Decree Under the Clean Air Act

Under 218 CFR 50.7, notice is hereby given that on April 9, 2003, a proposed Consent Decree in United States v. Archer Daniels Midland Company, (“ADM”), Civil Action No. 03-2066 was lodged with the United States District Court for the Central District of Illinois. The Consent Decree addresses claims for violations of the Preventions of Significant Deterioration (“PSD”) and New Source Performance Standards (“NSPS”) requirements of the Clean Air Act pursuant to section 113(b) of the Clean Air Act (“Act”), 42 U.S.C. 7413(b) (1983), amended by, 42 U.S.C. 7413(b) (Supp. 1991), at 52 plants in 16 states. The Complaint alleges that ADM routinely underestimated its VOC emissions from corn processing and ethanol production units and modified and expanded its oilseed plants without obtaining appropriate pre-construction permits and installing air pollution control equipment.

Under the terms of the Consent Decree, ADM will install state-of-the-art air pollution controls on hundreds of units, shut down older, dirty units and accept restrictive emission limits on others, for a total emission reduction of 63,000 tons per year. In addition ADM will meet NSPS, 40 CFR part 60, Subparts Db, Dc, DD, Kb, and VV for boilers, grain elevators, coal loading operations, and storage tanks. Finally, ADM is obligated to implement a corporate-wide environmental management system and conduct multi-media audits of each of its facilities at least twice over the life of the Decree.

The injunctive relief package is expected to cost ADM $328 million over the ten year period of compliance. ADM will also pay a civil penalty of $4,604,000 ($2,505,600 paid to the United States and $2,098,400 paid to the states) and spend $6,363,000 on environmentally beneficial projects. The states of Arkansas, Indiana, Illinois, Iowa, Kansas, Minnesota, Missouri, Nebraska, North Dakota, South Carolina, and Texas; the Iowa Counties of Linn and Polk and the Nebraska County of Lancaster have filed Complaints-in-intervention and executed the Consent Decree.

The Department of Justice will receive for a period of 30 days from the date of this publication comments relating to the ADM Consent Decree. Comments should be addressed to the Assistant Attorney General, Environment and Natural Resources Division, P.O. Box 7611, U.S. Department of Justice, Washington, DC 20044-7611, and should refer to: United States v. Archer Daniels Midland Company, D.J. Ref. 90-5-2-1-2035/2.

The Consent Decree may be examined at the Office of the United States Attorney, Central District of Illinois, 201 S. Vine Street, Room 226, Urbana, IL 61802, and at U.S. EPA Region 5, 775 West Jackson 77 Blvd., Chicago, Illinois 60604-3590. During the public comment period the ADM Consent Decree may also be examined on the following Department of Justice Web site, http://www.usdoj.gov/enrd.open.html. A copy of the ADM Consent Decree, may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $67.25 (includes attachments), or $28,25, without attachments (25 cents per page reproduction cost) payable to the U.S. Treasury.

Robert Maher,
Assistant Chief, Environmental Enforcement Section, Environment and Natural Resources Division.

[FR Doc. 03-10084 Filed 4-23-03; 8:45 am]

BILLING CODE 4410-15-M